DEPARTMENT OF TRANSPORTATION

Federal Aviation Administration

Proposed Advisory Circular 120-YY, “Aircraft Electrical Wiring Interconnection Systems Training Program”

AGENCY: Federal Aviation Administration (FAA), DOT.

ACTION: Notice of availability and request for comments.

SUMMARY: This notice announces the availability of and requests comments on a proposed advisory circular (AC) that sets forth acceptable methods of developing a training program for electrical wiring interconnection systems. This proposed AC complements revisions to the airworthiness standards that are being proposed by a separate notice. This notice is necessary to give all interested persons an opportunity to present their views on the proposed AC.

DATES: Comments must be received on or before December 5, 2005.

ADDRESSES: Send all comments on the proposed AC to: Federal Aviation Administration, Attention: Stephen Slotte, ANM-111, Airplane & Flight Crew Interface, Federal Aviation Administration, 1601 Lind Avenue SW., Renton, WA 98055-4056; telephone (425) 227-2315; facsimile (425) 227-1320, e-mail steve.slotte@faa.gov. Comments may be inspected at the above address between 7:30 a.m. and 4 p.m. weekdays, except Federal holidays.

FOR FURTHER INFORMATION CONTACT: Annette Kovite, Transport Standards Staff, at the address above, telephone (425) 227-1262.

SUPPLEMENTARY INFORMATION:

Comments Invited

Interested persons are invited to comment on the proposed AC by submitting such written data, views, or arguments as they may desire. Commenters should identify AC 120-YY and submit comments, in duplicate, to the address specified above. All communications received on or before the closing date for comments will be considered by the FAA before issuing the final AC. The proposed AC can be found and downloaded from the Internet at http://www.airweb.faa.gov/rgl under “Draft Advisory Circulars.” A paper copy of the proposed AC may be obtained by contacting the person named above under the caption FOR FURTHER INFORMATION CONTACT.

Discussion

This proposed AC provides guidance for developing an electrical wiring interconnection systems training program. This guidance is directed to air carriers, air operators, repair stations, and maintenance providers. It may also be used by type certificate holders, supplemental type certificate holders, and persons performing field approval modifications or repairs. The recommendations in this proposed AC can be applied to any aircraft training program.

Issued in Washington, DC, on September 22, 2005.
James J. Ballough,
Director, Flight Standards Service, Aviation Safety.

John J. Hickey,
Director, Aircraft Certification Service, Aviation Safety.

[FR Doc. 05-19410 Filed 10-5-05; 8:45 am]

BILLING CODE 4910-13-P